OVERSEAS PRIVATE INVESTMENT CORPORATION

Sunshine Act; OPIC Annual Public Hearing

January 22, 2004.

OPIC's Sunshine Act notice of its annual public hearing was published in the Federal Register (Volume 69, Number 4, Page 948) on January 7, 2004. No requests were received to provide testimony or submit written statements for the record; therefore, OPIC's annual public hearing scheduled for 2 pm on January 22, 2004 has been cancelled.

FOR FURTHER INFORMATION CONTACT: Information on the hearing cancellation may be obtained from Connie M. Downs at (202) 336-8438, via facsimile at (202) 218-0136, or via e-mail at cdown@opic.gov.

Dated: January 20, 2004.
Connie M. Downs,
OPIC Corporate Secretary.

[FR Doc. 04-1500 Filed 1-20-04; 3:40 pm]

BILLING CODE 3210-01-M